FEDERAL COMMUNICATIONS COMMISSION

Notice of Public Information Collection(s) Being Submitted for Review to the Office of Management and Budget, Comments Requested

March 16, 2009.

SUMMARY: The Federal Communications Commission, as part of its continuing effort to reduce paperwork burden invites the general public and other Federal agencies to take this opportunity to comment on the following information collection(s), as required by the Paperwork Reduction Act (PRA) of 1995, 44 U.S.C. 3501-3520. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before April 20, 2009. If you anticipate that you will be submitting PRA comments, but find it difficult to do so within the period of time allowed by this notice, you should advise the FCC contact listed below as soon as possible.

ADDRESSES: Direct all PRA comments to Nicholas A. Fraser, Office of Management and Budget, (202) 395-5887, or via fax at 202-395-5167 or via Internet at Nicholas_A._Fraser@omb.eop.gov and to Judith-B. Herman@fcc.gov, Federal Communications Commission, or an e-mail to PRA@fcc.gov. To view a copy of this information collection request (ICR) submitted to OMB: (1) Go to the Web page http://reginfo.gov/public/do/PRAMain, (2) look for the section of the Web page called “Currently Under Review”, (3) click on the downward-pointing arrow in the “Select Agency” box below the “Currently Under Review” heading, (4) select “Federal Communications Commission” from the list of agencies presented in the “Select Agency” box, (5) click the “Submit” button to the right of the “Select Agency” box, and (6) when the list of FCC ICRs currently under review appears, look for the title of this ICR (or its OMB Control Number, if there is one) and then click on the ICR Reference Number to view detailed information about this ICR.

FOR FURTHER INFORMATION CONTACT: For additional information or copies of the information collection(s), contact Judith B. Herman at 202-418-0214 or via the Internet at Judith-B.Herman@fcc.gov.

SUPPLEMENTARY INFORMATION: OMB Control Number: 3060-0763.

Title: ARMIS Customer Satisfaction Report.

Report Number: ARMIS Report 43-06.

Type of Review: Extension of an existing collection.

Respondents: Businesses or other for-profit.

Number of Respondents and Responses: 7 respondents; 7 responses.

Estimated Time per Response: 720 hours.

Frequency of Response: Annual reporting requirement.

Obligation to Respond: Voluntary. Statutory authority for this information collection is contained in 47 U.S.C. sections 11, 161, 219, and 220 of the Communications Act of 1934, as amended.

Total Annual Burden: 5,040 hours.

Total Annual Cost: None.

Privacy Act Impact Assessment: No impact.

Nature and Extent of Confidentiality: Ordinarily, questions of a sensitive nature are not involved in the ARMIS Customer Satisfaction Report. The Commission contends that areas in which detailed information is required are fully subject to regulation and the issue of data being regarded as sensitive will arise in special circumstances only. In such circumstances, the respondent is instructed on the appropriate procedures to follow to safeguard sensitive data. Any respondent who submits information to the Commission that they believe is confidential, may request confidential treatment of such information under 47 CFR 0.459 of the Commission's rules.

Needs and Uses: This collection is being submitted to the Office of Management and Budget (OMB) to extend the approval for an additional three years. In the Commission's Memorandum Opinion and Order and Notice of Proposed Rulemaking, FCC 08-203, released September 6, 2008, the Commission granted in significant part AT&T's petition for forbearance from the ARMIS service quality and infrastructure reporting requirements, subject to certain conditions. In addition, the Commission determined that its conclusions underlying its forbearance decision for AT&T also hold true for the other carriers required to file ARMIS Reports 43-05, 43-06, 43-07, and 43-08. Subject to certain conditions, the Commission found that the criteria of section 10(a)(1) and (a)(2) are satisfied. Given the burdens associated with the data reporting, and in light of the commitments of the reporting carriers, and other continuing regulatory requirements, the Commission determined that forbearance to be in the public interest.

The Commission noted that the reporting carriers have committed to continue gathering customer satisfaction data and to file those data publicly, through ARMIS Report 43-06 filings for 24 months from the effective date of the Commission's order. Further, the Commission noted that this will ensure continuity with regard to the customer satisfaction data that the Commission has collected up to this point, and affords the Commission a reasonable period of time to consider whether to adopt industry-wide reporting requirements. The Commission therefore adopted that commitment as a condition of its forbearance. Finally, the Commission granted the same forbearance relief to any similarly situated carriers who made the same commitment, and made clear that the relief that the Commission granted is not otherwise conditional.

In the Notice of Proposed Rulemaking (NPRM) portion of the Commission's September 6, 2008 Order published in the Federal Register on October 15, 2008 (73 FR 60997), the Commission recognized the possibility that customer satisfaction data contained in ARMIS Report 43-06 might be useful to help them make informed choices in a competitive market, but only if available from the entire relevant industry. The Commission tentatively concluded that it should collect this type of information, and seek comments on specific information that the Commission could collect. The Commission also asked for comments on the appropriate mechanism for such data collection.

The information contained in the ARMIS Report 43-06 provides the necessary detail to enable this Commission to fulfill its regulatory responsibilities. Automated reporting of these data greatly enhances the Commission's ability to process and analyze the extensive amounts of data that are needed to administer its rules. Automating and organizing data submitted to the Commission facilitate the timely and efficient analysis of revenue requirements, rate of return and price caps, and provide an improved basis for auditing and other oversight functions. It also enhances the Commission's ability to quantify the effects of policy proposals.

Federal Communications Commission.
Marlene H. Dortch,
Secretary.

[FR Doc. E9-6123 Filed 3-19-09; 8:45 am]

BILLING CODE 6712-01-P